TENNESSEE VALLEY AUTHORITY

Natural Resource Plan

AGENCY: Tennessee Valley Authority (TVA).

ACTION: Issuance of Record of Decision.

SUMMARY: This notice is provided in accordance with the Council on Environmental Quality's regulations (40 CFR parts1500 to 1508) and TVA's procedures for implementing the National Environmental Policy Act. TVA has decided to adopt the preferred alternative in its final environmental impact statement (EIS) for the Natural Resource Plan (NRP). The notice of availability of the Final Environmental Impact Statement for the Natural Resource Plan was published in the Federal Register on July 15, 2011. The TVA Board of Directors accepted the NRP and authorized TVA's Chief Executive Officer to implement the preferred alternative at its August 18, 2011, meeting. This alternative, Blended Management, will guide TVA's natural resource management over the next 20 years.

FOR FURTHER INFORMATION CONTACT: Charles P. Nicholson, NEPA Compliance Manager, Tennessee Valley Authority, 400 West Summit Hill Drive, WT 11D, Knoxville, Tennessee 37902-1499, telephone 865-632-3582 or e-mail cpnicholson@tva.gov ; Helen G. Rucker, Senior Manager, Land and Shoreline Management, Tennessee Valley Authority, 400 West Summit Hill Drive, WT 11B, Knoxville, Tennessee 37902-1499, telephone 865-632-3325 or email hgrucker@tva.gov.

SUPPLEMENTARY INFORMATION: TVA is an agency and instrumentality of the United States, established by an act of Congress in 1933, to foster the social and economic welfare of the people of the Tennessee Valley region and to promote the proper use and conservation of the region's natural resources. TVA's threefold mission is to provide affordable and reliable power, promote sustainable economic development, and act as the steward of the Valley's natural resources. The lands managed by TVA in the name of the United States of America are some of the most important resources of the region. These lands include approximately 293,000 acres associated with the TVA reservoir system and approximately 9,100 acres associated with TVA electrical generating facilities.

From its inception through 1998, TVA received federal appropriations for its natural resource management activities. Since then, the Energy and Water Development Act of 1998 has required TVA to fund its “essential stewardship activities,” including natural resource management, with its revenues from the sale of power and other funds. The TVA Act requires the TVA power system to be self-supporting and operating on a nonprofit basis and directs TVA to sell power at rates as low as are feasible.

The TVA Environmental Policy adopted in 2008 established six strategic objectives and associated critical success factors. Three of these strategic objectives, Water Resource Protection and Improvement, Sustainable Land Use, and Natural Resource Management, are the focus of the NRP. The goals of the NRP are to: (1) Align TVA's natural resource stewardship programs and plans with the Environmental Policy; (2) provide a strategic plan that guides TVA's resource management decisions and actions, integrates stewardship objectives for optimum public benefits while developing efficiencies for natural resources, and strikes a balance between the competing and sometimes conflicting resource uses on TVA-managed lands; (3) increase the efficiency of environmental reviews of TVA actions; (4) provide TVA staff with a reference manual to guide implementation activities; and (5) provide clarity and transparency to the public. The NRP addresses current and proposed TVA programs and activities for the management of biological, cultural, and water resources, recreation, reservoir lands planning, and public engagement.

Alternatives Considered

Four alternatives for TVA's management of natural resources were evaluated in the NRP EIS. These alternatives consist of different combinations and levels of implementation of resource management programs and activities and approaches to planning the use of TVA reservoir lands.

Alternative A—No Action Alternative: Under this alternative, TVA would continue to implement the existing programs and activities and would continue to use the current reservoir land planning methods.

Alternative B—Custodial Management: Under this alternative, TVA would implement the programs and activities necessary for compliance with TVA's mission and applicable laws, regulations, executive orders, and TVA policies. In those areas in which TVA would discontinue programs or activities, existing contractual agreements relating to those programs and activities would be honored. In addition, TVA would transfer the management of some recreational facilities to other parties or would close the facilities. Relative to Alternative A, this alternative would reduce TVA's level of effort in some areas and increase it in others. TVA would continue to use the current reservoir land planning methods.

Alternative C—Flagship Management: Under this alternative, TVA would aggressively explore, pilot test, and implement existing and new programs and activities to increase its resource management to the “gold standard.” TVA's proactive management of biological, cultural, and water resources would be greatly enhanced. Recreation management activities would focus on enhancements of existing facilities while emphasizing sustainable technologies, development of trails, greenways, and access areas, and repair of heavily impacted areas. Reservoir lands planning would be based on a Comprehensive Valleywide Land Plan that sets systemwide ranges for the proportion of TVA lands allocated to various uses.

Alternative D—Blended Management: Under this alternative, TVA would emphasize key programs that are integral toward enhancing future implementation efforts while maintaining activities and projects that address safety and comply with TVA's mission and applicable laws, regulations, executive orders, and TVA policies. The level of effort in many program areas would be greater than that of Alternatives A and B, and some program and activities would be implemented at the same level as Alternative C. Reservoir lands planning would be the same as under Alternative C. Alternative D was identified as the preferred alternative in the final EIS.

Public Involvement

On June 15, 2009, TVA published a notice of intent to prepare an EIS and to conduct a comprehensive study of its future energy and environmental stewardship needs known as the Integrated Resource Plan (IRP; Federal Register 76:39470-39472). The IRP had two major objectives—to develop a plan for meeting the energy needs of the TVA region over the next 20 years and to develop implementation plans for achieving the objectives of the Environmental Policy, including those focusing on management of natural resources. TVA accepted public comments on the scope of the IRP during a 60-day scoping period. Shortly after the public scoping period began, TVA decided it would be better to address natural resource management activities in a separate process and therefore decided to separate the IRP and NRP. TVA held an additional 30-day public scoping period for the NRP beginning October 2, 2009.

In addition to the public scoping, TVA directly solicited input from 11 federal and state natural resource agencies. TVA also used its Regional Resource Stewardship Council throughout the development of the NRP as an advisory and review group. TVA established the Council in 1999 under the Federal Advisory Committee Act to provide advice to TVA on its stewardship activities.

The notice of availability of the draft NRP and EIS was published in the Federal Register by the U.S. Environmental Protection Agency (USEPA) on April 1, 2011. TVA accepted comments on the draft NRP and EIS until May 16, 2011. During the comment period, TVA held three public meetings to describe the project and accept comments. TVA received 151 comment submissions on the draft NRP and EIS. After careful consideration of and response to all substantive comments, refinement of the programs and activities and their levels of intensity in the various alternatives, and additional review by the Council, TVA issued the final NRP and EIS. The notice of availability for the final NRP and EIS was published in the Federal Register on July 15, 2011.

Environmentally Preferred Alternative

Alternative C—Flagship Management is the environmentally preferred alternative. This alternative is comprised of the broadest range and highest levels of implementation of natural resource management programs and activities. Although this alternative would result in the greatest level of short-term adverse impacts caused by the various management activities, it would result in the greatest beneficial impacts and improved conditions for numerous resource areas.

Comments on the Final EIS

The U.S. Department of Interior (USDOI) and USEPA commented on the final NRP and EIS. The USDOI continued to support Alternative C—Flagship Management for providing greater opportunities for natural resource management, recovery, and protection. USDOI also encouraged TVA to provide greater transparency on future resource stewardship funding. USEPA continued to support Alternative C, but accepted TVA's preference for Alternative D. USEPA also requested that TVA better engage minority and low-income communities during the implementation of the NRP.

Decision

On August 18, 2011, the TVA Board of Directors determined that the preferred Alternative D—Blended Management was in the best interest of TVA and approved its implementation. This decision was based on that alternative's alignment with TVA's Environmental Policy, its focus on certain key programs that establish a baseline for future enhanced implementation efforts, and the flexibility it provides for the use of partnerships, volunteers, and other sources of funding to leverage programs to their full potential while working within resource and staff constraints.

Mitigation Measures

The natural resource management programs and activities associated with Alternative D have been designed to result in minimal adverse environmental impacts during their implementation and to result in long-term beneficial impacts. TVA will conduct site and/or activity-specific environmental reviews of its actions to implement the NRP and incorporate appropriate measures to avoid, minimize, or mitigate adverse impacts. TVA has developed a programmatic agreement (PA) for the management of historic properties affected by the NRP. This PA was signed by TVA on July 29, 2011, and by the Advisory Council on Historic Preservation on August 5, 2011. The PA requires that TVA develop and implement a Cultural Resources Management Plan within three years. This plan will address both TVA's compliance with Section 106 of the National Historic Preservation Act when implementing the various NRP activities and TVA's implementation of the cultural resource management programs and activities included in NRP Alternative D—Blended Management.

Dated: September 6, 2011.
Anda A. Ray,
Senior Vice President, Environment and Technology.

[FR Doc. 2011-23610 Filed 9-14-11; 8:45 am]

BILLING CODE 8120-08-P